DEPARTMENT OF COMMERCE

International Trade Administration

[A-570-881]

Malleable Cast Iron Pipe Fittings From the People's Republic of China: Notice of Rescission of Antidumping Duty Administrative Review

AGENCY: Import Administration, International Trade Administration, Department of Commerce.

EFFECTIVE DATE: February 25, 2008.

FOR FURTHER INFORMATION CONTACT: Andrea Staebler Berton, AD/CVD Operations, Office 8, Import Administration, Room 1870, International Trade Administration, U.S. Department of Commerce, 14th Street and Constitution Avenue, NW., Washington, DC 20230; telephone: (202) 482-4037.

Background

On December 3, 2007, the Department of Commerce (“the Department”) published a notice of opportunity to request an administrative review of the antidumping duty order on malleable cast iron pipe fittings from the People's Republic of China (“PRC”) for the period of review (“POR”) December 1, 2006, through November 30, 2007.¹ On December 28, 2007, Beijing Sai Lin Ke Hardware Co., Ltd. (“SLK”) requested that the Department conduct a review of its sales and entries of subject merchandise into the United States during the POR. On December 31, 2007, Mueller Comercial de México, S. de R.L. de C.V. (“Mueller”) requested that the Department conduct an administrative review of its sales and entries of subject merchandise into the United States during the POR. No other parties requested a review. On January 28, 2008, the Department published the Initiation Notice covering SLK and Mueller.² On January 29, 2008, the Department sent interested parties U.S. Customs and Border Protection (“CBP”) data that the Department intended to rely upon in selecting the mandatory respondent. The Department invited interested parties to submit comments on this data no later than February 5, 2008. However, on January 30, 2008, SLK withdrew its request for review. On February 6, 2008, Mueller withdrew its request for an administrative review.

¹ See Antidumping or Countervailing Duty Order, Finding, or Suspended Investigation: Opportunity to Request Administrative Review, 72 FR 67889 (December 3, 2007).

² See Initiation of Antidumping or Countervailing Duty Administrative Reviews and Request for Revocation in Part, 73 FR 4829 (January 28, 2008).

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. SLK and Mueller timely withdrew their requests before the 90-day deadline. Therefore, we are rescinding this review of the antidumping duty order on malleable cast iron pipe fittings from the PRC covering the period December 1, 2006, through November 30, 2007. The Department intends to issue assessment instructions to CBP 15 days after publication of this rescission notice. The Department will instruct CBP to assess antidumping duties at rates equal to the cash deposit of estimated antidumping duties required at the time of entry, or withdrawal from warehouse, for consumption, in accordance with 19 CFR 351.212(c)(1)(i).

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: February 15, 2008.
Stephen J. Claeys,
Deputy Assistant Secretary for Import Administration.

[FR Doc. E8-3532 Filed 2-22-08; 8:45 am]

BILLING CODE 3510-DS-P